DEPARTMENT OF LABOR

Employment and Training Administration

[NAFTA-06070 and NAFTA “ 06070A]

Williamson Dickie Manufacturing Company, McAllen #9, McAllen, TX, and Williamson Dickie Manufacturing Company, Weslaco, TX; Amended Certification Regarding Eligibility To Apply for NAFTA-Transitional Adjustment Assistance

In accordance with Section 250(A), Subchapter D, Chapter 2, Title II, of the Trade Act of 1974 (19 U.S.C. 2273), the Department of Labor issued a Certification for NAFTA Transitional Adjustment Assistance on July 2, 2002, applicable to workers of Williamson Dickie Manufacturing Company, McAllen #9, McAllen, Texas. The notice was published in the Federal Register on July 18, 2002 (67 FR 47401).

At the request of the company, the Department reviewed the certification for workers of the subject firm. New information shows that worker separations occurred at the Weslaco, Texas location of Williamson Dickie Manufacturing Company when the plant closed permanently in September, 2002. The workers were engaged in employment related to the production of men's work pants.

Accordingly, the Department is amending the certification to cover workers of Williamson Dickie Manufacturing Company, Weslaco, Texas.

The intent of the Department's certification is to include all workers of Williamson Dickie Manufacturing Company who were adversely affected by the transfer of production to Mexico.

The amended notice applicable to NAFTA-06070 is hereby issued as follows:

All workers of Williamson Dickie Manufacturing Company, McAllen #9, McAllen, Texas (NAFTA-06070) and Williamson Dickie Manufacturing Company, Weslaco, Texas (NAFTA-6070A) who became totally or partially separated from employment on or after April 9, 2001, through July 2, 2004, are eligible to apply for NAFTA-TAA under Section 250 of the Trade Act of 1974.

Signed at Washington, DC, this 4th day of October, 2002.
Linda G. Poole,
Certifying Officer, Division of Trade Adjustment Assistance.

[FR Doc. 02-29699 Filed 11-21-02; 8:45 am]

BILLING CODE 4510-30-P